COMMITTEE FOR PURCHASE FROM PEOPLE WHO ARE BLIND OR SEVERELY DISABLED

Procurement List; Additions and Deletions

AGENCY: Committee for Purchase From People Who Are Blind or Severely Disabled.

ACTION: Additions to and Deletions from the Procurement List.

SUMMARY: This action adds to the Procurement List commodities and services to be furnished by nonprofit agencies employing persons who are blind or have other severe disabilities, and deletes from the Procurement List commodities and services previously furnished by such agencies.

EFFECTIVE DATE: September 24, 2001.

ADDRESSES: Committee for Purchase From People Who Are Blind or Severely Disabled, Jefferson Plaza 2, Suite 10800, 1421 Jefferson Davis Highway, Arlington, Virginia 22202-3259.

FOR FURTHER INFORMATION CONTACT: Louis R. Bartalot (703) 603-7740

SUPPLEMENTARY INFORMATION: On February 2, May 11, June 8, June 15, June 22 and June 29, 2001, the Committee for Purchase From People Who Are Blind or Severely Disabled published notices (66 FR 8776, 24100, 30884, 32598, 33520, 33521 and 34612) of proposed additions to and deletions from the Procurement List:

Additions

After consideration of the material presented to it concerning capability of qualified nonprofit agencies to provide the commodities and services and impact of the additions on the current or most recent contractors, the Committee has determined that the commodities and services listed below are suitable for procurement by the Federal Government under 41 U.S.C. 46-48c and 41 CFR 51-2.4.

I certify that the following action will not have a significant impact on a substantial number of small entities. The major factors considered for this certification were:

1. The action will not result in any additional reporting, recordkeeping or other compliance requirements for small entities other than the small organizations that will furnish the commodities and services to the Government.

2. The action will not have a severe economic impact on current contractors for the commodities and services.

3. The action will result in authorizing small entities to furnish the commodities and services to the Government.

4. There are no known regulatory alternatives which would accomplish the objectives of the Javits-Wagner-O'Day Act (41 U.S.C. 46-48c) in connection with the commodities and services proposed for addition to the Procurement List.

Accordingly, the following commodities and services are hereby added to the Procurement List:

Commodities

Air Freshener, Zooville Animal

M.R. 475

Broom, Swivel Head

M.R. 1043

Services

Janitorial/Custodial

U.S. Border Patrol Sector Headquarters

Ramey, Puerto Rico

Janitorial/Custodial

At the Following Base Exchanges:

Norfolk Naval Base

Norfolk, Virginia

Norfolk Naval Shipyard

Portsmouth, Virginia

Oceana Naval Air Station

Virginia Beach, Virginia

Dam Neck Fleet Combat Training Center Atlantic

Virginia Beach, Virginia

Little Creek Naval Amphibious Base

Norfolk, Virginia

Janitorial/Custodial

Defense Supply Center—Richmond

Richmond, Virginia

Janitorial/Custodial

U.S. Army Reserve Center

4828 West Silver Spring Drive

Milwaukee, Wisconsin

Mailroom and Records Management Services

Langley Air Force Base, Virginia

Operation of Environmental Remediation Service— Puget Sound Naval Shipyard, Bremerton, Washington

Transportation/Vehicle Operation Service—Brooks Air Force Base, Texas

This action does not affect current contracts awarded prior to the effective date of this addition or options that may be exercised under those contracts.

Deletions

I certify that the following action will not have a significant impact on a substantial number of small entities. The major factors considered for this certification were:

1. The action will not result in any additional reporting, recordkeeping or other compliance requirements for small entities.

2. The action will not have a severe economic impact on future contractors for the commodities and services.

3. The action will result in authorizing small entities to furnish the commodities and services to the Government.

4. There are no known regulatory alternatives which would accomplish the objectives of the Javits-Wagner-O'Day Act (41 U.S.C. 46-48c) in connection with the commodities and services deleted from the Procurement List.

After consideration of the relevant matter presented, the Committee has determined that the commodities and services listed below are no longer suitable for procurement by the Federal Government under 41 U.S.C. 46-48c and 41 CFR 51-2.4. Accordingly, the following commodities and services are hereby deleted from the Procurement List:

Commodities

Bag, Cargo 1670-01-065-3748

Winterization Kit 4240-00-065-0319

Strap, Webbing 5340-00-001-1266, 5340-01-147-3366, 5340-00-939-7062, 5340-01-219-2887, 5340-01-139-3197

Cap—Operating, Surgical 6532-00-083-6545

Original and Duplicate Microfiche, Program 1566-S 7690-00-NSH-0018

Mophead, Wet 7920-00-926-5497

Cleaner, Multi-Purpose 7930-01-393-6759

Box, Wood, Fiberboard 8115-00-L01-0679, 8115-00-L01-0680, 8115-00-L01-0681

Mask, Extreme Cold Weather 8415-01-006-3468, 8415-01-181-1398

Bag, Garment 8460-00-883-8673

Services

Janitorial/Custodial U.S. Army Reserve Center, 2513-15 Gravel Road, Fort Worth, Texas

Janitorial/Custodial U.S. Army Reserve Center, 2800 Crestline Road, Fort Worth, Texas

Sheryl D. Kennerly,
Director, Information Management.

[FR Doc. 01-21468 Filed 8-23-01; 8:45 am]

BILLING CODE 6353-01-P